INTERNATIONAL TRADE COMMISSION

[Inv. No. 337-TA-455]

Certain Network Interface Cards and Access Points for Use in Direct Sequence Spread Spectrum Wireless Local Area Networks and Products Containing Same; Notice of Decision To Extend the Deadlines for Determining Whether To Review Two Determinations

AGENCY: U.S. International Trade Commission.

ACTION: Notice.

SUMMARY: Notice is hereby given that the U.S. International Trade Commission has determined to extend until June 25, 2001, the deadlines for determining whether to review two initial determinations (“IDs”) issued by the presiding administrative law judge (ALJ) in the above-captioned investigation (Orders Nos. 12 and 13), granting the motions of Intersil Corporation (“Intersil”) and Agere Systems, Inc. (“Agere”), respectively, to intervene but denying them respondent status.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on April 9, 2001, based on a complaint filed by Proxim, Inc. (“Proxim”) against 14 entities which do not include Intersil or Agere. The notice of investigation was published in the Federal Register on April 9, 2001. 66 FR 18507 (2001). The complaint alleges violations of section 337 of the Tariff Act of 1930 in the importation into the United States, sale for importation, and/or sale within the United States after importation of certain wireless network interface cards and access points by reason of infringement of certain U.S. patents owned by Proxim. On April 16, 2001, Intersil and Agere, both, filed the motions to intervene as the respondents in the investigation.

On May 8, 2001, and on May 15, 2001, the presiding administrative law judge (ALJ) (Judge Morriss) issued two IDs (Orders Nos. 12 and 13) granting Intersil's and Agere's motions, respectively. The IDs allow Intersil and Agere to become intervenors in the present investigation, but deny Intersil and Agere respondent status.

The authority for the Commission's determination is contained in section 337 of the Tariff Act of 1930, as amended (19 U.S.C. 1337), and in section 210.42 of the Commission's Rules of Practice and Procedure (19 CFR 210.42).

Issued: June 4, 2001.
By order of the Commission.
Donna R. Koehnke,
Secretary.

[FR Doc. 01-14429 Filed 6-7-01; 8:45 am]

BILLING CODE 7020-02-P